DEPARTMENT OF AGRICULTURE

Food Safety and Inspection Service

[Docket No. FSIS-2011-0035]

Codex Alimentarius Commission: Codex Committee on Pesticide Residues (CCPR)

AGENCY: Office of the Under Secretary for Food Safety, USDA.

ACTION: Notice of public meeting and request for comments.

SUMMARY: The Office of the Under Secretary for Food Safety, U.S. Department of Agriculture (USDA), Food Safety and Inspection Service (FSIS), and the United States Environmental Protection Agency (EPA), are sponsoring a public meeting on February 14, 2012. The objective of the public meeting is to provide information and receive public comments on agenda items and draft United States (U.S.) positions that will be discussed at the 44th Session of the Codex Committee on Pesticide Residues (CCPR) of the Codex Alimentarius Commission (Codex), which will be held in Shanghai, P.R. China April 23-28, 2012. The Under Secretary for Food Safety and EPA recognize the importance of providing interested parties the opportunity to obtain background information on the 44th Session of the CCPR and to address items on the agenda.

DATES: The public meeting is scheduled for Tuesday, February 14, 2012, from 1 p.m.-3 p.m.

ADDRESSES: The public meeting will be held at EPA, Room S-7100, One Potomac Yard South; 2777 South Crystal Drive, Arlington, Virginia 22202. Documents related to the 44th Session of the CCPR will be accessible via the World Wide Web at the following address: http://www.codexalimentarius.org/.

Lois Rossi, U.S. Delegate to the 44th session of the CCPR, and EPA, invite U.S. interested parties to submit their comments electronically to the following email address: Rossi.Lois@epamail.epa.gov.

Call-In Number

If you wish to participate in the public meeting for the 44th Session of the CCPR by conference call, please use the call-in numbers and participant codes listed below:

United States Call in Number: 1-(866) 299-3188.

United States Participant Code: (703) 305-6463.

International Call in Number: 1-(706) 758-1822.

International Participant Code: (703) 305-6463.

FOR FURTHER INFORMATION ABOUT THE 44TH SESSION OF THE CCPR CONTACT:

Lois Rossi, Director of Registration Division, Office of Pesticide Programs, U.S. Environmental Protection Agency, Ariel Rios Building, 1200 Pennsylvania Avenue NW., Washington, DC 20460, telephone: (703) 305-5447, fax: (703) 305-6920, email: Rossi.Lois@epamail.epa.gov.

FOR FURTHER INFORMATION ABOUT THE PUBLIC MEETING CONTACT: Doreen Chen-Moulec, U.S. Codex Office, 1400 Independence Avenue SW., Room 4861, Washington, DC 20250, telephone: (202) 205-7760, fax: (202) 720-3157, email: Doreen.Chen-Moulec@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The CCPR is responsible for establishing maximum limits for pesticide residues in specific food items or in groups of food; establishing maximum limits for pesticide residues in certain animal feeding stuffs moving in international trade where this is justified for reasons of protection of human health; preparing priority lists of pesticides for evaluation by the Joint FAO/WHO Meeting on Pesticide Residues (JMPR); considering methods of sampling and analysis for the determination of pesticide residues in food and feed; considering other matters in relation to the safety of food and feed containing pesticide residues; and establishing maximum limits for environmental and industrial contaminants showing chemical or other similarity to pesticides, in specific food items or groups of food.

The CCPR is hosted by China.

Issues To Be Discussed at the Public Meeting

The following items on the agenda for the 44th Session of the CCPR will be discussed during the public meeting:

• Matters Referred to the CCPR by Codex and Codex Committees

• Matters of Interest Arising from FAO and WHO

• Matters of Interest Arising from Other International Organizations

• Report on Items of General Consideration by the 2011 JMPR

• Report on the 2011 JMPR Responses to Specific Concerns Raised by the CCPR

• Draft and Proposed Draft Maximum Residue Limits (MRLs) for Pesticides in Foods and Feeds at Step 7 and 4

• Pilot Project for the JMPR Recommendation of MRLs before National Governments or Other Regional Registration Authorities for a Global Joint Review of a Chemical Substance

• Update on the Pilot Project and the Progress of the National Global Joint Review

• Draft Revision of the Codex Classification of Foods and Animal Feeds at Step 7: Fruit Commodity Groups (Excluding Edible Flowers and Assorted Tropical and Sub-tropical Fruits—Edible and Inedible Peel)

• Draft Revision of the Codex Classification of Foods and Animals at Step 7: Fruit Commodity Groups: Edible Flowers and Assorted Tropical and Sub-tropical Fruits Edible and Inedible Peel

• Proposed Draft Revision of the Codex Classification of Foods and Animal Feeds at Step 4: Selected Vegetable Commodity Groups

• Draft Principles and Guidance for the Selection of the Representative Commodities for the Extrapolation of MRLs for Pesticides for Commodity Groups at Step 7

• Discussion Paper on the Guidance to Facilitate the Establishment of MRLs for Pesticides for Minor Crops and Specialty Crops

• Revision of the Risk Analysis Principles Applied by the Codex Committee on Pesticide Residues

• Establishment of Codex Priority Lists of Pesticides

• Other Business and Future Work

• Discussion Paper on JMPR Resource Issues in the Provision of Scientific Advice to CCPR

Each issue listed will be fully described in documents distributed, or to be distributed, by the Secretariat prior to the meeting. Members of the public may access copies of these documents (see ADDRESSES).

Public Meeting

At the February 14, 2012, public meeting, draft U.S. positions on the agenda items will be described and discussed, and attendees will have the opportunity to pose questions and offer comments. Written comments may be offered at the meeting or sent to Lois Rossi, U.S. Delegate for the 44th Session of the CCPR (see ADDRESSES). Written comments should state that they relate to activities of the 44th Session of the CCPR.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives, and notices. Customers can add or delete subscriptions themselves, and have the option to password protect their accounts.

USDA Nondiscrimination Statement

USDA prohibits discrimination in all its programs and activities on the basis of race, color, national origin, gender, religion, age, disability, political beliefs, sexual orientation, and marital or family status (Not all prohibited bases apply to all programs).

Persons with disabilities who require alternative means for communication of program information (Braille, large print, and audiotape) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Done at Washington, DC, on January 17, 2012.
Karen Stuck,
U.S. Manager for Codex Alimentarius.

[FR Doc. 2012-1160 Filed 1-20-12; 8:45 am]

BILLING CODE 3410-DM-P